DEPARTMENT OF COMMERCE

International Trade Administration

[A-583-865]

Carbon and Alloy Steel Threaded Rod From Taiwan: Antidumping Duty Order

AGENCY: Enforcement and Compliance, International Trade Administration, Department of Commerce.

SUMMARY: Based on affirmative final determinations by the Department of Commerce (Commerce) and the International Trade Commission (ITC), Commerce is issuing an antidumping duty order on carbon and alloy steel threaded rod from Taiwan.

DATES: Applicable February 5, 2020.

FOR FURTHER INFORMATION CONTACT: Dusten Hom or Mary Kolberg, AD/CVD Operations Office I, Enforcement and Compliance, International Trade Administration, U.S. Department of Commerce, 1401 Constitution Avenue NW, Washington, DC 20230; telephone: (202) 482-5075 or (202) 482-1785, respectively.

SUPPLEMENTARY INFORMATION:

Background

In accordance with sections 735(d) and 777(i)(1) of the Tariff Act of 1930, as amended (the Act), and 19 CFR 351.210(c), on December 9, 2019, Commerce published its affirmative final determination in the less-than-fair-value (LTFV) investigation with respect to imports of carbon and alloy steel threaded rod from Taiwan.¹ On January 23, 2020, the ITC notified Commerce of its final determination pursuant to section 735(b)(1)(A) of the Act that an industry in the United States is materially injured by reason of the LTFV imports of carbon and alloy steel threaded rod from Taiwan.²

¹ See Carbon and Alloy Steel threaded Rod from Taiwan: Final Affirmative Determination of Sales at Less Than Fair Value, 84 FR 67258 (December 9, 2019) (Final Determination).

² See Notification Letter from the ITC, dated January 23, 2020 (ITC Letter).

Scope of the Order

The merchandise covered by this order is carbon and alloy steel threaded rod from Taiwan. For a complete description of the scope of the order, see the Appendix to this notice.

Antidumping Duty Order

As stated above, on January 23, 2020, in accordance with section 735(d) of the Act, the ITC notified Commerce of its final determination in this investigation, in which it found that an industry in the United States is materially injured within the meaning of section 735(b)(1)(A) by reason of imports of carbon and alloy steel threaded rod from Taiwan. Therefore, in accordance with sections 735(c)(2) and 736 of the Act, Commerce is issuing this antidumping duty order. Because the ITC determined that imports of carbon and alloy steel threaded rod from Taiwan are materially injuring a U.S. industry, unliquidated entries of such merchandise from Taiwan, entered or withdrawn from warehouse for consumption, are subject to the assessment of antidumping duties.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of carbon and alloy steel threaded rod from Taiwan. Antidumping duties will be assessed on unliquidated entries of carbon and alloy steel treaded rod from Taiwan entered, or withdrawn from warehouse, for consumption on or after September 25, 2019, the date of publication of the Preliminary Determination.³

³ See Carbon and Alloy Steel Threaded Rod from Taiwan: Preliminary Affirmative Determination of Sales at Less than Fair Value, 84 FR 50382 (September 25, 2019) (Preliminary Determination).

Continuation of Suspension of Liquidation

In accordance with section 735(c)(1)(B) of the Act, Commerce will instruct CBP to continue to suspend liquidation of all appropriate entries of carbon and alloy steel threaded rod from Taiwan as described in the Appendix to this notice which were entered, or withdrawn from warehouse, for consumption on or after September 25, 2019, the date of publication of the Preliminary Determination of this investigation in the Federal Register. These instructions suspending liquidation will remain in effect until further notice.

Pursuant to section 735(c)(1)(B) of the Act and 19 CFR 351.210(d), Commerce will instruct CBP to require cash deposits equal to the amounts indicated below. Accordingly, effective on the date of publication of the ITC's final affirmative injury determination, Commerce will instruct CBP to require, at the same time as estimated normal customs duties on this subject merchandise are deposited, cash deposits equal to the rates listed below.⁴ The all-others rate applies to producers or exporters not specifically listed, as appropriate.

⁴ See section 736(a)(3) of the Act.

Estimated Weighted-Average Dumping Margins

The weighted-average dumping duty percentages are as follows:

Exporter or producer | Weighted- average dumping margin (percent)
Quintain Steel Co. Ltd | 32.26
Top Forever Screws Co. Ltd | 32.26
Fastenal Asia Pacific Ltd. TW Repres | 32.26
QST International Corporation | 32.26
Ta Chen Steel Pipe Ltd | 32.26
All Others | 32.26

Notification to Interested Parties

This notice constitutes the antidumping duty order with respect to carbon and alloy steel threaded rod from Taiwan pursuant to section 736(a) of the Act. Interested parties can find a list of antidumping duty orders currently in effect at http://enforcement.trade.gov/stats/iastats1.html.

This order is issued and published in accordance with section 736(a) of the Act and 19 CFR 351.211(b).

Dated: January 24, 2020.
Jeffrey I. Kessler,
Assistant Secretary for Enforcement and Compliance.

Appendix I

Scope of the Order

The merchandise covered by the scope of the order is carbon and alloy steel threaded rod. Steel threaded rod is certain threaded rod, bar, or studs, of carbon or alloy steel, having a solid, circular cross section of any diameter, in any straight length. Steel threaded rod is normally drawn, cold-rolled, threaded, and straightened, or it may be hot-rolled. In addition, the steel threaded rod, bar, or studs subject to the order are non-headed and threaded along greater than 25 percent of their total actual length. A variety of finishes or coatings, such as plain oil finish as a temporary rust protectant, zinc coating (i.e., galvanized, whether by electroplating or hot-dipping), paint, and other similar finishes and coatings, may be applied to the merchandise.

Steel threaded rod is normally produced to American Society for Testing and Materials (ASTM) specifications ASTM A36, ASTM A193 B7/B7m, ASTM A193 B16, ASTM A307, ASTM A329 L7/L7M, ASTM A320 L43, ASTM A354 BC and BD, ASTM A449, ASTM F1554-36, ASTM F1554-55, ASTM F1554 Grade 105, American Society of Mechanical Engineers (ASME) specification ASME B18.31.3, and American Petroleum Institute (API) specification API 20E. All steel threaded rod meeting the physical description set forth above is covered by the scope of the order, whether or not produced according to a particular standard.

Subject merchandise includes material matching the above description that has been finished, assembled, or packaged in a third country, including by cutting, chamfering, coating, or painting the threaded rod, by attaching the threaded rod to, or packaging it with, another product, or any other finishing, assembly, or packaging operation that would not otherwise remove the merchandise from the scope of the order if performed in the country of manufacture of the threaded rod.

Carbon and alloy steel threaded rod are also included in the scope of the order whether or not imported attached to, or in conjunction with, other parts and accessories such as nuts and washers. If carbon and alloy steel threaded rod are imported attached to, or in conjunction with, such non-subject merchandise, only the threaded rod is included in the scope.

Excluded from the scope of the order are: (1) Threaded rod, bar, or studs which are threaded only on one or both ends and the threading covers 25 percent or less of the total actual length; and (2) stainless steel threaded rod, defined as steel threaded rod containing, by weight, 1.2 percent or less of carbon and 10.5 percent or more of chromium, with our without other elements.

Specifically excluded from the scope of the order is threaded rod that is imported as part of a package of hardware in conjunction with a ready-to-assemble piece of furniture.

Steel threaded rod is currently classifiable under subheadings 7318.15.5051, 7318.15.5056, and 7318.15.5090 of the Harmonized Tariff Schedule of the United States (HTSUS). Subject merchandise may also enter under subheading 7318.15.2095 and 7318.19.0000 of the HTSUS. The HTSUS subheadings are provided for convenience and U.S. Customs purposes only. The written description of the scope is dispositive.

[FR Doc. 2020-02274 Filed 2-4-20; 8:45 am]

BILLING CODE 3510-DS-P